DEPARTMENT OF AGRICULTURE

Food Safety and Inspection Service

[Docket No. FSIS-2023-0008]

Notice of Request To Revise an Approved Information Collection: State Meat and Poultry Inspection Programs

AGENCY: Food Safety and Inspection Service (FSIS), U.S. Department of Agriculture (USDA).

ACTION: Notice and request for comments.

SUMMARY: In accordance with the Paperwork Reduction Act of 1995 and the Office of Management and Budget (OMB) regulations, FSIS is announcing its intention to request revision of the approved information collection regarding State Meat and Poultry Inspection Programs. FSIS is adding 164 burden hours to the collection due to the addition of new states. The approval for this information collection will expire on July 31, 2023.

DATES: Submit comments on or before June 13, 2023.

ADDRESSES: FSIS invites interested persons to submit comments on this Federal Register notice. Comments may be submitted by one of the following methods:

• Federal eRulemaking Portal: This website provides commenters the ability to type short comments directly into the comment field on the web page or to attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700.

Instructions: All items submitted by mail or electronic mail must include the Agency name and docket number FSIS-2023-0008. Comments received in response to this docket will be made available for public inspection and posted without change, including any personal information, to https://www.regulations.gov.

Docket: For access to background documents or comments received, call (202) 937-4272 to schedule a time to visit the FSIS Docket Room at 1400 Independence Avenue SW, Washington, DC 20250-3700.

FOR FURTHER INFORMATION CONTACT: Gina Kouba, Office of Policy and Program Development, Food Safety and Inspection Service, USDA, 1400 Independence Avenue SW, Mailstop 3758, South Building, Washington, DC 20250-3700; (202) 937-4272.

SUPPLEMENTARY INFORMATION:

Title: State Meat and Poultry Inspection Programs.

OMB Number: 0583-0170.

Expiration Date of Approval: July 31, 2023.

Type of Request: Renewal of an approved information collection.

Abstract: The Federal Meat Inspection Act (FMIA) and the Poultry Products Inspection Act (PPIA) provide for FSIS to cooperate with State agencies in developing and administering their own meat or poultry inspection (MPI) programs (21 U.S.C. 661 and 454). The FMIA and the PPIA restrict each cooperative State MPI program to the inspection and regulation of products that are produced and sold within the State (21 U.S.C. 661(a)(1) and 454(a)(1)). Under section 661 of the FMIA and section 454 of the PPIA, cooperative State MPI programs are required to operate in a manner and with authorities “at least equal to” the provisions set out in the FMIA and PPIA (21 U.S.C. 661(a)(1) and 454(a)(1)).

FSIS is announcing its intention to request revision of the approved information collection regarding State MPI programs. FSIS collects information from State MPI programs to ensure that their programs operate in a manner that is at least equal to FSIS' Federal inspection program in the protection of public interest; comply with requirements of Federal civil rights laws and regulations; meet necessary laboratory quality assurance standards and testing frequencies; and have the capability to perform microbiology and food chemistry methods that are “at least equal to” methods performed in the FSIS laboratories. FSIS is adding 164 burden hours to the collection due to the addition of new states. The approval for this information collection will expire on July 31, 2023.

Twenty-nine states have MPI programs that operate under a cooperative agreement with FSIS and are subject to the comprehensive review process. Comprehensive reviews of State MPI programs are conducted by an interdisciplinary team of FSIS Auditors from the Office of Investigation, Enforcement and Audit (OIEA), the Financial Management Division (FMD), the Civil Rights Staff (CRS), and the Laboratory Quality Assurance, Response, and Coordination Staff (LQARCS).

There are nine review components that make up the comprehensive review process. The components are as follows: Component 1—Statutory Authority and Food Safety Regulations; Component 2—Inspection; Component 3—Sampling Programs; Component 4—Staffing, Training, and Supervision; Component 5—Humane Handling; Component 6—Compliance; Component 7—Laboratory Quality Assurance Program and Methods; Component 8—Civil Rights; and Component 9—Financial Accountability.

For each of the first six components, State MPI programs submit annual self-assessment documentation to FSIS to demonstrate that the State MPI program is meeting the “at least equal to” Federal inspection requirements. Each component of the annual self-assessment includes a written narrative statement and documentation demonstrating that the program continuously meets the criteria to be “at least equal to” the Federal inspection program. State MPI programs also submit sufficient documentation to demonstrate that the program either follows current FSIS statutes, regulations, applicable directives and notices, and has implemented any changes necessary to maintain the “at least equal to” status or that the State MPI program has an effective, analogous program that would also be “at least equal to” the Federal inspection program. All State MPI programs need to demonstrate they operate in a manner that protects the health and welfare of consumers by ensuring that the meat and poultry products distributed by the establishments in the program are wholesome, not adulterated, and properly marked, labeled, and packaged.

The annual self-assessment submission also includes one or more narratives describing the internal controls used by the State MPI program that: (1) Provide assurances and can measure the effectiveness of the program under the “at least equal to” criteria; (2) demonstrate how non-conformances will be addressed by corrective actions; and (3) demonstrate how the State MPI program will be maintained throughout the next 12 months.

For Component 7 of the comprehensive State review process, states submit documentation of their laboratory quality assurance programs and methods. States document their laboratory quality assurance program activities on the FSIS Form 5720-14, State Meat and Poultry Inspection Program Laboratory Quality Management System Checklist. States submit copies of new or revised laboratory analytical methods accompanied by a FSIS Form 5720-15, Laboratory Method Notification Form.

For Component 8 of the comprehensive review process, states submit documentation of their Civil Rights compliance. States receive FSIS monies to operate their MPI programs, and as such, are subject to the nondiscrimination provisions of Title VI, Title IX, Section 504 of the Rehabilitation Act of 1973 and the Age Discrimination Act of 1975. To assess the 29 states' compliance with these provisions, FSIS requests information on the states' civil rights programs and controls on FSIS Form 1520.1, Civil Rights Compliance of State Inspection Programs. This form requests information regarding nine areas of civil rights compliance, which include: (1) Civil Rights Assurances; (2) State Infrastructure and Program Accountability; (3) Public Notification; (4) Racial and Ethnic Data Collection; (5) Civil Rights Complaints of Discrimination; (6) Civil Rights Training; (7) Disability Compliance; (8) Limited English Proficiency; and (9) Compliance with the Age Discrimination Act of 1975. The form allows states to: (1) Document management controls they have implemented and maintained with regard to these nine categories; and (2) document how their overall civil rights program constitutes a civil rights program “at least equal to” the FSIS Federal program.

FSIS requests documentation concerning all components of the self-assessment and completion of these forms annually. Submission of the completed forms is due by November 1 each year to the Coordinators from OIEA, FMD, CRS, and LQARCS. In each submission, states respond to all questions and report on programs and activities implemented and maintained during the prior fiscal year (October 1 through September 30).

In addition to the annual self-assessment submission, State MPI programs are subject to an on-site review at a minimum frequency of once every three years to verify the accuracy and implementation of the self-assessment submissions. In the year that a State MPI program is scheduled for an on-site review, FSIS closely examines records from the State MPI program to determine annually whether the program is “at least equal to” the Federal inspection program.

FSIS has made the following estimates for the revised information collection.

Estimate of Burden: FSIS estimates that it will take each respondent an average of 243.137 hours to complete the forms and narratives.

Respondents: State MPI Directors, Program Managers, and/or Human Resources Officials.

Estimated No. of Respondents: 29 respondents.

Estimated No. of Annual Responses per Respondent: 1.

Estimated Total Annual Burden on Respondents: 7,051 hours.

All responses to this notice will be summarized and included in the request for OMB approval. All comments will also become a matter of public record. Copies of this information collection assessment can be obtained from Gina Kouba, Office of Policy and Program Development, Food Safety and Inspection Service, USDA, 1400 Independence Avenue SW, Mailstop 3758, South Building, Washington, DC 20250-3700; (202) 937-4272.

Comments are invited on: (a) whether the proposed collection of information is necessary for the proper performance of FSIS' functions, including whether the information will have practical utility; (b) the accuracy of FSIS' estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410;

(2) Fax: (833) 256-1665 or (202) 690-7442; or

(3) Email: program.intake@usda.gov.

USDA is an equal opportunity provider, employer, and lender.

Paul Kiecker,
Administrator.

[FR Doc. 2023-07857 Filed 4-13-23; 8:45 am]

BILLING CODE 3410-DM-P